UNITED STATES INSTITUTE OF PEACE

Notice Regarding Board of Directors Meetings

AGENCY: United States Institute of Peace (USIP) and Endowment of the United States Institute of Peace.

ACTION: Announcement of meeting.

SUMMARY: USIP announces the next meeting of the Board of Directors.

DATES: Monday, March 11, 2024 (4-5:30 p.m. ET).

The next meeting of the Board of Directors will be held March 11, 2024.

ADDRESSES: 2301 Constitution Avenue NW, Washington, DC 20037.

FOR FURTHER INFORMATION CONTACT: Corinne Graff, 202-429-7895, cgraff@usip.org.

SUPPLEMENTARY INFORMATION: Open Session—Portions may be closed pursuant to subsection (c) of section 552b of title 5, United States Code, as provided in subsection 1706(h)(3) of the United States Institute of Peace Act, Public Law 98-525.

Authority: 22 U.S.C. 4605(h)(3).

Dated: March 11, 2024.
Rebecca Fernandes,
Director of Accounting.

[FR Doc. 2024-05048 Filed 3-8-24; 8:45 am]

BILLING CODE 2810-03-P